DEPARTMENT OF TRANSPORTATION

Federal Aviation Administration

14 CFR Part 39

[Docket No. FAA-2012-1173; Directorate Identifier 2012-CE-038-AD; Amendment 39-17367; AD 2013-04-09]

RIN 2120-AA64

Airworthiness Directives; Costruzioni Aeronautiche Tecnam srl Airplanes

AGENCY: Federal Aviation Administration (FAA), Department of Transportation (DOT).

ACTION: Final rule.

SUMMARY: We are adopting a new airworthiness directive (AD) for Costruzioni Aeronautiche Tecnam srl Model P2006T airplanes. This AD results from mandatory continuing airworthiness information (MCAI) issued by an aviation authority of another country to identify and correct an unsafe condition on an aviation product. The MCAI describes the unsafe condition as multiple cracks found on the outboard aileron hinge support of a P2006T airplane during an inspection. We are issuing this AD to require actions to address the unsafe condition on these products.

DATES: This AD is effective April 9, 2013.

The Director of the Federal Register approved the incorporation by reference of a certain publication listed in the AD as of April 9, 2013.

ADDRESSES: You may examine the AD docket on the Internet at http://www.regulations.gov or in person at Document Management Facility, U.S. Department of Transportation, Docket Operations, M-30, West Building Ground Floor, Room W12-140, 1200 New Jersey Avenue SE., Washington, DC 20590.

For service information identified in this AD, contact Costruzioni Aeronautiche TECNAM Airworthiness Office, Via Maiorise—81043 Capua (CE) Italy; telephone: +39 0823 620134; fax: +39 0823 622899; email: m.oliva@tecnam.com or g.paduano@tecnam.com; Internet: www.tecnam.com/it-IT/documenti/service-bulletins.aspx. You may review copies of the referenced service information at the FAA, Small Airplane Directorate, 901 Locust, Kansas City, Missouri 64106. For information on the availability of this material at the FAA, call (816) 329-4148.

FOR FURTHER INFORMATION CONTACT: Albert Mercado, Aerospace Engineer, FAA, Small Airplane Directorate, 901 Locust, Room 301, Kansas City, Missouri 64106; telephone: (816) 329-4119; fax: (816) 329-4090; email: albert.mercado@faa.gov.

SUPPLEMENTARY INFORMATION:

Discussion

We issued a notice of proposed rulemaking (NPRM) to amend 14 CFR part 39 to include an AD that would apply to the specified products. That NPRM was published in the Federal Register on November 5, 2012 (77 FR 66417). That NPRM proposed to correct an unsafe condition for the specified products. The MCAI states:

During a 100-hour inspection of a P2006T aeroplane, multiple cracks were detected on the outboard aileron hinge support, part number (P/N) 26-1-1082-1/3.

This condition, if not detected and corrected, could jeopardize the wing structural integrity.

For the reason described above, this AD requires to inspect for crack detection all aileron hinge supports and to accomplish the applicable corrective actions.

Comments

We gave the public the opportunity to participate in developing this AD. The following presents the comments received on the proposal and the FAA's response to each comment.

Decrease Inspection Interval

Dudley Clark of Ocean Air Flight Services stated that they found a crack on an airplane at less than 300 hours time-in-service (TIS). He stated we should decrease the initial inspection interval to 200 hours TIS and the continuing checks at 50 hours TIS until compliance is met with the replacement parts.

We do not agree because we have evaluated the compliance time utilized by the State of Design in the EASA AD and determined that it provides the acceptable level of risk to mitigate the unsafe condition. The compliance time in this AD is the same as in the EASA AD. We have also provided the information about this crack to EASA (the State of Design) for their consideration.

We are making no changes to the final rule AD based on this comment.

Increase Amount of Labor

Dudley Clark of Ocean Air Flight Services stated that the labor time is understated by about half and does not include any time for painting. He recommends we increase the amount of labor required to 6 hours per wing, not including painting.

We do not agree with increasing the labor hours to 6 hours because we verified with the type certificate holder (manufacturer) that the labor rate of 3 hours takes into account service centers' knowledge of the airplane. The cost does not include the cost of painting and does not take into consideration varying circumstances and configurations of certain airplanes that may require additional work-hours to accomplish the actions.

We are making no changes to the final rule AD based on this comment.

Conclusion

We reviewed the relevant data, considered the comments received, and determined that air safety and the public interest require adopting the AD as proposed except for minor editorial changes. We have determined that these minor changes:

• Are consistent with the intent that was proposed in the NPRM (77 FR 66417, November 5, 2012) for correcting the unsafe condition; and

• Do not add any additional burden upon the public than was already proposed in the NPRM (77 FR 66417, November 5, 2012).

Costs of Compliance

We estimate that this AD will affect 7 products of U.S. registry. We also estimate that it would take about .5 work-hour per product to comply with the basic requirements of this AD. The average labor rate is $85 per work-hour.

Based on these figures, we estimate the cost of this AD on U.S. operators to be $297.50, or $42.50 per product.

In addition, we estimate that any necessary follow-on actions would take about 3 work-hours and require parts costing $460, for a cost of $715 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General Requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the Internet at http://www.regulations.gov; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2013-04-09 Costruzioni Aeronautiche Tecnam srl: Amendment 39-17367; Docket No. FAA-2012-1173; Directorate Identifier 2012-CE-038-AD.

(a) Effective Date

This airworthiness directive (AD) becomes effective April 9, 2013.

(b) Affected ADs

None.

(c) Applicability

This AD applies to Costruzioni Aeronautiche Tecnam srl P2006T airplanes, serial numbers 001/US through 9999/US, certificated in any category.

(d) Subject

Air Transport Association of America (ATA) Code 57, Wings.

(e) Reason

This AD was prompted by multiple cracks found on the outboard aileron hinge support of a P2006T airplane during an inspection. We are issuing this AD to require actions to address the unsafe condition on these products.

(f) Actions and Compliance

Unless already done, do the following actions following the Inspection Instructions, paragraph 2, numbers 1 through 8, in Costruzioni Aeronautiche TECNAM Service Bulletin No. SB 102-CS-Rev2, dated July 3, 2012:

(1) At the compliance times below, inspect all aileron hinge supports part numbers (P/N) 26-1-1082-1/3, P/N 26-1-1081-1/3, P/N 26-1-1081-2/4, and P/N 26-1-1082-2/4 for cracks:

(i) For airplanes with 600 or more hours time-in-service (TIS) as of April 9, 2013 (the effective date of this AD): Within 30 days after April 9, 2013 (the effective date of this AD) or within the next 25 hours TIS after April 9, 2013 (the effective date of this AD), whichever occurs first, and repetitively thereafter at intervals not to exceed 100 hours TIS or 12 months, whichever occurs first,

(ii) For airplanes with less than 600 hours TIS as of April 9, 2013 (the effective date of this AD): Within 30 days after accumulating 600 hours TIS or within 25 hours TIS after accumulating 600 hours TIS, whichever occurs first, and thereafter at intervals not to exceed 100 hours TIS or 12 months, whichever occurs first.

(2) If a crack is found during any inspection required by paragraph (f)(1) of this AD, before further flight, contact: Costruzioni Aeronautiche TECNAM at Costruzioni Aeronautiche TECNAM Airworthiness Office, Via Maiorise—81043 Capua (CE) Italy; telephone: +39 0823 620134; fax: +39 0823 622899; email: m.oliva@tecnam.com or g.paduano@tecnam.com; Internet: www.tecnam.com/it-IT/documenti/service-bulletins.aspx; for replacement instructions and accomplish them accordingly.

(g) Credit for Actions Accomplished in Accordance With Previous Service Information

This AD provides credit for the actions required in this AD if already done before April 9, 2013 (the effective date of this AD) following Costruzioni Aeronautiche TECNAM Service Bulletin No. SB 102-CS-Rev1, dated June 29, 2012.

(h) Other FAA AD Provisions

The following provisions also apply to this AD:

(1) Alternative Methods of Compliance (AMOCs): The Manager, Standards Office, FAA, has the authority to approve AMOCs for this AD, if requested using the procedures found in 14 CFR 39.19. Send information to ATTN: Albert Mercado, Aerospace Engineer, FAA, Small Airplane Directorate, 901 Locust, Room 301, Kansas City, Missouri 64106; telephone: (816) 329-4119; fax: (816) 329-4090; email: albert.mercado@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, a federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(i) Related Information

Refer to MCAI European Aviation Safety Agency (EASA) AD No.: 2012-0146, dated August 6, 2012; and Costruzioni Aeronautiche TECNAM Service Bulletin No. SB 102-CS-Rev2, dated July 3, 2012, for related information.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Costruzioni Aeronautiche TECNAM Service Bulletin No. SB 102-CS-Rev2, dated July 3, 2012.

(ii) Reserved

(3) For Costruzioni Aeronautiche TECNAM service information identified in this AD, contact Costruzioni Aeronautiche TECNAM Airworthiness Office, Via Maiorise—81043 Capua (CE) Italy; telephone: +39 0823 620134; fax: +39 0823 622899; email: m.oliva@tecnam.com or g.paduano@tecnam.com; Internet: www.tecnam.com/it-IT/documenti/service-bulletins.aspx.

(4) You may view this service information at FAA, Small Airplane Directorate, 901 Locust, Kansas City, Missouri 64106. For information on the availability of this material at the FAA, call (816) 329-4148.

(5) You may view this service information that is incorporated by reference at the National Archives and Records Administration (NARA). For information on the availability of this material at NARA, call 202-741-6030, or go to: http://www.archives.gov/federal-register/cfr/ibr-locations.html.

Issued in Kansas City, Missouri, on February 20, 2013.
John Colomy,
Acting Manager, Small Airplane Directorate, Aircraft Certification Service.

[FR Doc. 2013-04341 Filed 3-4-13; 8:45 am]

BILLING CODE 4910-13-P